DEPARTMENT OF THE INTERIOR

Bureau of Land Management

[ES-020-05-1430-EU; FLES 052520]

Direct Sale of Public Land in Walton County, FL

AGENCY: Bureau of Land Management, Interior.

ACTION: Notice of realty action.

SUMMARY: The Bureau of Land Management (BLM) proposes a direct sale under Section 203 of the Federal Land Policy and Management Act of 1976 (90 Stat. 2750, 43 U.S.C. 1713), of approximately 0.58 acres in Walton County, Florida, at no less than fair market value.

DATES: Interested persons may submit written comments to the BLM at the address stated below. Comments must be received by not later than August 29, 2005.

ADDRESSES: Bureau of Land Management, Jackson Field Office, 411 Briarwood Dr., Suite 404, Jackson, Mississippi 39206.

FOR FURTHER INFORMATION CONTACT: Mary Weaver, Realty Specialist, at the above address or at (601) 977-5435.

SUPPLEMENTARY INFORMATION: The following described public land has been examined and found suitable for sale pursuant to Section 203 of the Federal Land Policy and Management Act of October 21, 1976 (43 U.S.C. 1713):

Tallahassee Meridian, Florida

T. 3 S., R. 20 W.

Sec. 3, Lot 37

The area described contains 0.58 acres, more or less.

The proposed sale conforms to the Florida Resource Management Plan Amendment approved October 8, 2004. The land is proposed to be sold, using 43 CFR 2711.3-3 direct sale procedures, to the Palms of Dune Allen Owners Association, Inc., which is a corporation formed by an association of the owners of a condominium development know as the Palms of Dune Allen. A direct sale is appropriate to protect the equities arising from a right-of-way grant issued previously by the Bureau of Land Management. This right-of-way authorized two boardwalks, which provide beach access from the Palms of Dune Allen land to the beach of the Gulf of Mexico. Because of the small size and configuration of the land, its historic use for access and location relative to adjoining private land, it is impractical for another party to own or for BLM to retain the land under its management.

The land will not be offered for sale until at least 60 days after August 29, 2005. The appraised fair market value of the land is $10,000. The prospective purchaser will be allowed 30 days from receipt of a written offer to submit a deposit of at least 20 percent of the appraised market value of the land, and 180 days thereafter to submit the balance.

The following reservations, covenants and conditions will be included in the patent conveying the land:

1. All minerals shall be reserved to the United States, together with the right to prospect for, mine and remove such deposits from the same under applicable laws and such regulations as the Secretary of the Interior may prescribe.

2. Patentee, its successors and assigns, agree that the above described land is subject to the following, which shall constitute a covenant running with the land:

In order to protect the habitat of the Choctawhatchee Mouse, minimize interference with nesting areas used by sea turtles and shorebirds, and otherwise preserve natural dune habitat, the patentee, its successors and assigns, covenant and agree not to engage in, allow or suffer, with respect to the above described land:

Clearing, cutting or mowing;

Earthmoving, sand removal, grading, cultivation, burning or filling;

Dumping of refuse, wastes, sewage, other debris or any hazardous substances;

Draining, ditching, diking, dredging, channelizing, pumping, impounding or excavating;

Diverting or affecting the natural flow of surface or underground waters within or out of the land;

Burning, systematically removing or cutting or otherwise destroying any vegetation, except for removal of diseased or unsafe trees;

Spraying with biocides;

Introducing exotic species or otherwise altering the natural state;

Grazing of domesticated animals;

Display of billboards, signs or advertisements on or over the land, except for the posting of no trespassing signs, signs identifying the conservation values or their protection and/or identifying the owner;

Constructing, placing or raising of any structure, whether temporary or permanent.

Notwithstanding these prohibitions, the existing boardwalks that currently traverse the land may be repaired, maintained and reconstructed in their current location, and, with respect to the western-most boardwalk, electricity service may be maintained for lighting and gate access and water supply for hose and shower, provided that lighting must be “turtle friendly”, so as to not be deleterious to sea turtle nesting. In the event the sand dunes are damaged or severely eroded by the waters of the Gulf, by wind, storms, rain, hurricanes or by any natural event, the sand dunes may be rebuilt and restored, dune grasses may be planted and sand fences may be installed to encourage the natural restoration.

Detailed information concerning the proposed sale, including but not limited to documentation relating to compliance with applicable environmental and cultural resource laws, is available for review in the BLM, Jackson Field Office at the address stated above.

The above described land is segregated from appropriation under the public land laws, including the general mining laws, except for leasing under the mineral leasing laws. The segregation effect will end upon issuance of the patent or April 10, 2006, whichever occurs first.

Comments must be received by the BLM Field Manager, Jackson Field Office, at the address stated above, on or before the date stated above for that purpose. Any adverse comments will be evaluated by the State Director who may sustain, vacate, or modify this realty action. In the absence of any objections, this proposed realty action will become final.

(Authority: 43 CFR 2711.1-2 (a) and (c)).

Dated: June 17, 2005.
Duane Winters,
Acting Field Manager.

[FR Doc. 05-13877 Filed 7-13-05; 8:45 am]

BILLING CODE 4310-GJ-P